DEPARTMENT OF ENERGY

Federal Energy Regulatory Commission

Combined Notice of Filings #1

May 8, 2006.

Take notice that the Commission received the following electric rate filings.

Docket Numbers: ER00-2823-002.

Applicants: American Cooperative Services, Inc.

Description: American Cooperative Services, Inc. submits its Second Revised Sheet No. 1, et al. to its Rate Schedule No. 1 pursuant to FERC's order 674.

Filed Date: 5/3/2006.

Accession Number: 20060504-0073.

Comment Date: 5 p.m. Eastern Time on Friday, May 12, 2006.

Docket Numbers: ER02-1118-005.

Applicants: Continental Electric Cooperative Service, Inc.

Description: Continental Electric Cooperative Services, Inc. submits its Second Revised Sheet No. 1 et al. to its Rate Schedule No. 1 pursuant to FERC's order 674.

Filed Date: 5/3/2006.

Accession Number: 20060504-0072.

Comment Date: 5 p.m. Eastern Time on Friday, May 12, 2006.

Docket Numbers: ER06-738-001; ER06-739-001.

Applicants: Cogen Technologies Linden Venture, L.P.; East Coast Power Linden Holding, L.L.C.

Description: Cogen Technologies Linden Venture, L.P. and East Coast Power Linden Holding, L.L.C. submits a supplement to its petition filed with the Commission 3/17/06.

Filed Date: 4/28/2006.

Accession Number: 20060505-0030.

Comment Date: 5 p.m. Eastern Time on Monday, May 15, 2006.

Docket Numbers: ER06-758-001.

Applicants: Chambers Cogeneration, Limited Partnership.

Description: Chambers Cogeneration, Limited Partnership supplements its petition filed with the Commission 3/16/06.

Filed Date: 4/28/2006.

Accession Number: 20060505-0026.

Comment Date: 5 p.m. Eastern Time on Monday, May 15, 2006.

Docket Numbers: ER06-902-000.

Applicants: Pacific Gas & Electric Company.

Description: Pacific Gas and Electric Co. submits modifications to Service Agreement No. 42, Network Integration Transmission Service Agreement with San Francisco Bay Area Rapid Transit District.

Filed Date: 5/2/2006.

Accession Number: 20060505-0029.

Comment Date: 5 p.m. Eastern Time on Tuesday, May 23, 2006.

Docket Numbers: ER06-904-000.

Applicants: New England Power Pool Participants Committee.

Description: New England Power Pool (NEPOOL) Participants Committee submits the signature pages of its New England Power Pool Agreement with Emera Energy U.S. Subsidiary #2, Inc et al.

Filed Date: 5/1/2006.

Accession Number: 20060505-0028.

Comment Date: 5 p.m. Eastern Time on Monday, May 22, 2006.

Docket Numbers: ER06-905-000.

Applicants: Appalachian Power Company.

Description: Appalachian Power Co. submits a cost-based Formula Rate Agreement for Full Requirements Electric Service between American Electric Service Corp. with Craig-Botetourt Electric Cooperative, Inc.

Filed Date: 5/1/2006.

Accession Number: 20060505-0032.

Comment Date: 5 p.m. Eastern Time on Monday, May 22, 2006.

Docket Numbers: ER06-906-000.

Applicants: California Power Exchange Corporation.

Description: California Power Exchange Corp. submits proposed amendments to its Rate Schedule 1 to recover projected expenses for the period 7/21/06 through 12/31/06.

Filed Date: 5/1/2006.

Accession Number: 20060505-0027.

Comment Date: 5 p.m. Eastern Time on Monday, May 22, 2006.

Docket Numbers: ER06-907-000.

Applicants: American Electric Power Service Corp.

Description: American Electric Power submits a Master Power Purchase and Sale Agreement with AEP Texas North Company.

Filed Date: 4/28/2006.

Accession Number: 20060505-0024.

Comment Date: 5 p.m. Eastern Time on Friday, May 19, 2006.

Docket Numbers: ER06-908-000.

Applicants: Southern California Edison Company.

Description: Southern California Edison submits a Letter Agreement with Stirling Energy Systems Solar One LLC.

Filed Date: 4/28/2006.

Accession Number: 20060505-0023.

Comment Date: 5 p.m. Eastern Time on Friday, May 19, 2006.

Docket Numbers: ER06-909-000.

Applicants: PNM Resources Operating Companies; Public Service Company of New Mexico; Texas-New Mexico Power Company.

Description: Public Service Co. of New Mexico et al. submits amended sheets to PNM Resources Operating Companies' Joint OATT, FERC Electric Tariff Original Volume 1.

Filed Date: 4/28/2006.

Accession Number: 20060505-0022.

Comment Date: 5 p.m. Eastern Time on Friday, May 19, 2006.

Docket Numbers: ER06-910-000.

Applicants: The United Illuminating Company.

Description: The United Illuminating Co. submits its Interconnection Agreement with Bridgeport Energy LLC, Service Agreement 11.1, Second Revised Volume 4 etc.

Filed Date: 4/28/2006.

Accession Number: 20060505-0021.

Comment Date: 5 p.m. Eastern Time on Friday, May 19, 2006.

Docket Numbers: ER06-911-000.

Applicants: DC Energy Midwest, LLC.

Description: DC Energy Midwest, LLC submits an amendment to its market-based rate tariff no. 1, effective 6/5/06.

Filed Date: 4/28/2006.

Accession Number: 20060505-0020.

Comment Date: 5 p.m. Eastern Time on Friday, May 19, 2006.

Docket Numbers: ER06-912-000.

Applicants: DC Energy New York, LLC.

Description: DC Energy New York, LLC submits an application for order authorizing market-based rates, waivers, blanket authorizations and request for expedited action to proposed FERC Electric Tariff, Original Volume 1.

Filed Date: 4/28/2006.

Accession Number: 20060505-0019.

Comment Date: 5 p.m. Eastern Time on Friday, May 19, 2006.

Docket Numbers: ER06-913-000.

Applicants: DC Energy Mid-Atlantic, LLC.

Description: DC Energy Mid-Atlantic LLC submits an application for order authorizing market-based rates, waivers, blanket authorizations and request for expedited action to its proposed FERC Electric Tariff Original Volume 1.

Filed Date: 4/28/2006.

Accession Number: 20060505-0018.

Comment Date: 5 p.m. Eastern Time on Friday, May 19, 2006.

Docket Numbers: ER06-914-000.

Applicants: DC Energy New England, LLC.

Description: DC Energy New England, LLC submits an application for order authorizing market-based rates, waivers, blanket authorizations and request for expedited action to FERC Electric Tariff, Original Volume 1.

Filed Date: 4/28/2006.

Accession Number: 20060505-0017.

Comment Date: 5 p.m. Eastern Time on Friday, May 19, 2006.

Docket Numbers: ER06-915-000.

Applicants: DC Energy, LLC.

Description: DC Energy LLC submits an amendment to its market-based rate electric tariff no. 1.

Filed Date: 4/28/2006.

Accession Number: 20060505-0016.

Comment Date: 5 p.m. Eastern Time on Friday, May 19, 2006.

Docket Numbers: ER06-916-000.

Applicants: Xcel Energy Services Inc.

Description: Xcel Energy Services Inc., as agent for Northern State Power Co. et al. submits its Notice of Termination for the Network Integration Transmission Service Agreement et al. with Dairyland Power Coop, effective 5/1/06.

Filed Date: 4/28/2006.

Accession Number: 20060505-0015.

Comment Date: 5 p.m. Eastern Time on Friday, May 19, 2006.

Docket Numbers: ER06-917-000.

Applicants: PacifiCorp.

Description: PacifiCorp submits revisions to its OATT to incorporate FERC's Small Generator Interconnection Agreement and Procedures etc.

Filed Date: 4/28/2006.

Accession Number: 20060505-0031.

Comment Date: 5 p.m. Eastern Time on Friday, May 19, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-7473 Filed 5-16-06; 8:45 am]

BILLING CODE 6717-01-P